DEPARTMENT OF COMMERCE

[Docket No. 231218-0310]

Business Diversity Principles

AGENCY: Office of the Secretary, U.S. Department of Commerce.

ACTION: Request for information on Business Diversity Principles; extension of comment period.

SUMMARY: On November 29, 2023, the Department of Commerce (DOC) published in the Federal Register a notice entitled “Request for Information (RFI) on Business Diversity Principles.” This RFI invited comments from the public on the draft Business Diversity Principles (BDP), which describe best practices related to diversity, equity, inclusion, and accessibility (DEIA) in the private sector, and on the impact of DEIA initiatives. DOC is seeking input to inform the content of the BDP, share success stories and best practices related to Business Diversity, and comment on the impact of DEIA initiatives. In response from prospective commenters that they would benefit from additional time to adequately consider and respond to the RFI, DOC has determined that an extension of the comment period until February 2, 2024, is appropriate.

DATES: The end of the comment period for the notice entitled “Request for Information (RFI) on Business Diversity Principles,” published on November 29, 2023 (88 FR 83380), is extended from January 5, 2024, to February 2, 2024. All comments must be received by February 2, 2024. Comments received after this date may not be accepted.

ADDRESSES: To respond to the Request for Information (RFI), please submit electronic public comments via the Federal e-Rulemaking Portal.

1. Go to www.regulations.gov and enter DOC-2023-0003 in the search field,

2. Click the “Comment Now!” icon, complete the required fields, and

3. Enter or attach your comments.

Comments sent by any other method, to any other address or individual, or received after the end of the comment period, may not be considered.

FOR FURTHER INFORMATION CONTACT: Roosevelt Holmes, Deputy Chief of Staff, Minority Business Development Agency, at 202-482-1079 or rholmes1@doc.gov. Please direct media inquiries to Valerie Keys in the Office of Public Affairs at 202-802-8166 or vkeys@doc.gov.

SUPPLEMENTARY INFORMATION: The DOC is committed to implementing Executive Orders 13985 and 14091 and is developing the BDP Initiative as part of its 2022-2026 Strategic Plan goal of promoting inclusive capitalism and equitable economic growth for all Americans. The DOC published draft Business Diversity Principles on November 29, 2023 (88 FR 83380) and sought public comment until January 5, 2024. The DOC has received requests to extend the comment period. An extension of the comment period will provide additional opportunity for the public to consider the RFI and prepare comments to address the topics listed therein. Therefore, DOC is extending the comment period for the RFI from January 5, 2024, to February 2, 2024.

Dated: December 19, 2023.
Ines Hernandez-Siqueira,
Counselor for Equity, Office of the Secretary.

[FR Doc. 2023-28251 Filed 12-21-23; 8:45 am]

BILLING CODE 3510-20-P